DEPARTMENT OF ENERGY

Federal Energy Regulatory Commission

[Project No. 12486-007]

Twin Lakes Canal Company; Notice of Preliminary Permit Application Accepted for Filing and Soliciting Comments, Motions To Intervene, and Competing Applications

On March 8, 2012, Twin Lakes Canal Company filed an application for a successive preliminary permit, pursuant to section 4(f) of the Federal Power Act (FPA), proposing to study the feasibility of the Bear River Narrows Project (project) to be located on Bear River, in Franklin County, Idaho. The sole purpose of a preliminary permit, if issued, is to grant the permit holder priority to file a license application during the permit term. A preliminary permit does not authorize the permit holder to perform any land-disturbing activities or otherwise enter upon lands or waters owned by others without the owners' express permission.

The proposed project would consist of the following: (1) A 700-foot-long, 108-foot-high embankment dam; (2) a reservoir having a surface area of 420 acres, having a storage capacity of 17,300 acre-feet and normal water surface elevation of 4,734 feet mean sea level; (3) a powerhouse containing two generating units with a total installed capacity of 11 megawatts; (4) a 0.8-mile-long transmission line; and (5) appurtenant facilities. The applicant estimates that the average annual generation would be 51 gigawatt-hours, which would be sold to a local utility.

Applicant Contact: Mr. Clair Boesen, Twin Lakes Canal Company, P.O. Box 247, 2 North State Street, Preston, Idaho 83263; phone: (208) 852-0415.

FERC Contact: Shana Murray; phone: (202) 502-8333.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-12486) in the docket number field to access the document. For assistance, contact FERC Online Support.

Dated: March 9, 2012.
Kimberly D. Bose,
Secretary.

[FR Doc. 2012-6367 Filed 3-15-12; 8:45 am]

BILLING CODE 6717-01-P